DEPARTMENT OF DEFENSE

Office of the Secretary

Meeting of the Department of Defense Military Family Readiness Council (MFRC)

AGENCY: Office of the Under Secretary of Defense for Personnel and Readiness, Department of Defense.

ACTION: Notice.

SUMMARY: Pursuant to Section 10(a), Public Law 92-463, as amended, notice is hereby given of a forthcoming meeting of the Department of Defense Military Family Readiness Council (MFRC). The purpose of the Council meeting is to review the military family programs which will be the focus for the Council for next year, and address selected concerns of military family organizations.

DATES: Wednesday, May 1, 2013, from 2:30 p.m. to 4:00 p.m.

ADDRESSES: Pentagon Conference Center B6 (escorts will be provided from the Pentagon Metro entrance).

FOR FURTHER INFORMATION CONTACT: Ms. Melody McDonald or Ms. Betsy Graham, Office of the Deputy Under Secretary of Defense (Military Community & Family Policy), 4800 Mark Center Drive Alexandria, VA 22350-2300, Room 3G15. Telephones (571) 372-0880; (571) 372-0881 and/or email: FamilyReadinessCouncil@osd.mil.

SUPPLEMENTARY INFORMATION: The meeting is open to the public, subject to the availability of space. Persons desiring to attend may contact Ms. Melody McDonald at 571-372-0880 or email FamilyReadinessCouncil@osd.mil no later than 5:00 p.m. on Friday, April 19, 2013 to arrange for parking and escort into the conference room inside the Pentagon.

Interested persons may submit a written statement for consideration by the Council. Persons desiring to submit a written statement to the Council must notify the point of contact listed in FOR FURTHER INFORMATION CONTACT no later than 5:00 p.m., Friday, April 12, 2013.

The purpose of this meeting is to refine the Council recommendations that will be included in the 2013 Military Family Readiness Council report to the congressional defense committees and the Secretary of Defense. This meeting will focus on Army and Office of the Secretary of Defense efforts to ensure that existing military family readiness programs are prepared for full scope program evaluation and the council will be briefed on the Exceptional Family Member Program and the efforts to standardize the program across the services. The council will also receive an update on the Department of Defense Task Force on Common Services for Service Member and Family Support.

Wednesday, May 1, 2013

Welcome & Administrative Remarks.

Family Policy changes since last meeting.

Discussion of Exceptional Family Member Program standardization.

Update on the Department of Defense Task Force on Common Services for Service Member and Family Support.

Closing Remarks.

Note: Exact order may vary.

Dated: April 1, 2013.
Aaron Siegel,
Alternate OSD Federal Register Liaison Officer, Department of Defense.

[FR Doc. 2013-07890 Filed 4-3-13; 8:45 am]

BILLING CODE 5001-06-P